NUCLEAR REGULATORY COMMISSION

[Docket Nos. 50-390, 50-391, and 72-1048; NRC-2024-0118]

Tennessee Valley Authority; Watts Bar Nuclear Plant, Units 1 and 2; Environmental Assessment and Finding of No Significant Impact

AGENCY: Nuclear Regulatory Commission.

ACTION: Notice; issuance.

SUMMARY: The U.S. Nuclear Regulatory Commission (NRC) is considering issuance of an exemption for Facility Operating License Nos. NPF-90 and NPF-96 held by Tennessee Valley Authority (TVA, the licensee) for the operation of Watts Bar Nuclear Plant, Units 1 and 2 (Watts Bar). The exemption would exempt TVA from the requirement to install a monitored alarm at the access control point of the storage facilities where the old steam generators are stored. The exemption is being requested to address a regulatory noncompliance which has resulted in the issuance of minor violations at the Watts Bar site. The NRC staff is issuing an environmental assessment (EA) and finding of no significant impact (FONSI) associated with the proposed exemption.

DATES: The EA and FONSI referenced in this document are available on June 27, 2024.

ADDRESSES: Please refer to Docket ID NRC-2024-0118 when contacting the NRC about the availability of information regarding this document. You may obtain publicly available information related to this document using any of the following methods:

• Federal Rulemaking Website: Go to https://www.regulations.gov and search for Docket ID NRC-2024-0118. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Kimberly Green, Office of Nuclear Reactor Regulation, U.S. Nuclear Regulatory Commission, Washington, DC 20555-0001, telephone: 301-415-1627; email: Kimberly.Green@nrc.gov.

SUPPLEMENTARY INFORMATION:

I. Introduction

The NRC is considering issuance of an exemption from the requirement in paragraph 37.11(c)(2) of title 10 of the Code of Federal Regulations (10 CFR) to secure category 1 or category 2 radioactive waste with a locked door or gate with monitored alarm at the access control point for Facility Operating License Nos. NPF-90 and NPF-96 issued to Tennessee Valley Authority (TVA), for operation of the Watts Bar Nuclear Plant, Units 1 and 2 (Watts Bar), respectively, located in Rhea County, Tennessee. Because this proposed exemption does not fall within the NRC's list of categorical exclusions in 10 CFR 51.22, the NRC prepared an EA, as required by 10 CFR 51.21. Based on the results of the EA that follows, the NRC has determined not to prepare an environmental impact statement for the exemption and is issuing a FONSI.

TVA is requesting an exemption from the requirement to “[u]se a locked door or gate with monitored alarm at the access control point” for category 1 and 2 quantities of radioactive material as set forth in 10 CFR 37.11(c)(2) for the old steam generator storage facilities (OSGSFs) at the Watts Bar site. The exemption is being requested to address a regulatory noncompliance which has resulted in the issuance of minor violations at the Watts Bar site.

The OSGSFs are used to store the contaminated old steam generators (OSGs) that have been removed from their respective Watts Bar containments. The OSGs exceed the threshold for a category 2 quantity of radioactivity, as defined in 10 CFR 37.5, but do not contain discrete radioactive sources, ion-exchange resins, or activated materials that weigh less than 2,000 kilograms (4,409 pounds), as described in 10 CFR 37.11(c).

TVA describes the OSGSFs as robust structures that are closed with ten stacked precast concrete panels weighing approximately 17,237 kilograms (38,000 pounds) each. The OSGSFs are located outside the Watts Bar protected area but within the exclusion area and site boundary. Removal of the concrete panels is the only access point of sufficient size to remove an OSG and requires heavy lifting and rigging equipment that cannot be staged nor utilized quickly. Removal of the concrete panels is an evolution that is easily observable over an extended period of time.

II. Environmental Assessment

Description of the Proposed Action

The proposed action would exempt TVA from the requirement to use a locked door or gate with a monitored alarm at the access control point to the OSGSFs utilized for the OSGs at Watts Bar.

The proposed action is in accordance with the licensee's exemption request dated September 28, 2023 (ADAMS Accession No. ML23271A063), as supplemented by letter dated March 14, 2024 (ADAMS Accession No. ML24074A457).

Need for the Proposed Action

The regulation at 10 CFR 37.11(c)(2) requires, in part, licensees who possess radioactive waste that contains category 1 or category 2 quantities of radioactive waste to secure the radioactive waste with a locked door or gate with monitored alarm at the access control point. The Watts Bar OSGs exceed the threshold for a category 2 quantity of radioactivity, but do not contain discrete radioactive sources, ion-exchange resins, or activated materials that weigh less than 2,000 kilograms and, therefore, are not exempt from the requirements in 10 CFR 37.11(c). As such, the licensee is required to have a monitored alarm at the access control point to the OSGSFs where the OSGs are stored. As described in the request for exemption, the only access point of sufficient size to the OSGs is via the removal of the 17,237-kilogram concrete panels, and removal of these panels would require setting up heavy rigging and lifting equipment.

On March 13, 2014, the NRC issued Enforcement Guidance Memorandum (EGM) 2014-001, “Interim Guidance for Dispositioning 10 CFR part 37 Violations with Respect to Large Components or Robust Structures Containing Category 1 or Category 2 Quantities of Material at Power Reactor Facilities Licensed Under 10 CFR parts 50 and 52” (ADAMS Accession No. ML14056A151), to provide guidance to NRC staff for dispositioning violations associated with 10 CFR part 37 with respect to large components containing category 1 and category 2 quantities of radioactive material stored in robust structures at power reactor facilities licensed under 10 CFR parts 50 and 52. The EGM defines a large component as an item weighing 2,000 kilograms or more, but not containing either discrete sources or ion exchange resins, and limits the components to steam generators, steam dryers, turbine rotors, reactor vessels, reactor vessel heads, reactor coolant pumps, and shielding blocks. It also defines a robust structure as a closed concrete bunker or modular vault for which access to the radioactive materials contained within the structure is gained only through the use of heavy equipment to remove structural components or large access blocks that weigh 2,000 kilograms or more. The EGM allows the NRC Regional Offices to evaluate potential violations and consider if the use of enforcement discretion is warranted under certain circumstances. The EGM will remain effective until the underlying technical issue is dispositioned through rulemaking or other regulatory action. Therefore, to address a regulatory noncompliance and avoid future violations, TVA has requested an exemption.

Environmental Impacts of the Proposed Action

The NRC staff has assessed the potential environmental impacts from granting the requested exemption. The proposed action involves no new construction or modification of the facilities at Watts Bar, and no changes to the contents of OSGSFs. Therefore, the proposed action would have no direct impact on land and water use or water quality, including terrestrial and aquatic biota, and there would be no change in the quality or quantity of radiological and non-radiological effluents. Additionally, there would be no change in dose to members of the public and occupational workers. The proposed action would have no effect on air pollutant emissions or ambient air quality. In addition, the proposed action would have no noticeable effect on socioeconomic and environmental justice conditions in the region, and no adverse effect on historic and cultural resources. Therefore, the proposed action would have no significant effect on the quality of the human environment.

Environmental Impacts of the Alternatives to the Proposed Action

As an alternative to the proposed action, the staff considered denial of the exemption request (i.e., the “no-action” alternative). Denial of the exemption request would result in the need to install a locked door or gate with monitored alarm, and there would be no change in the current environmental impacts. Accordingly, the environmental impacts from the proposed action and the no-action alternative would be similar.

Alternative Use of Resources

There are no unresolved conflicts concerning alternative uses of available resources under the proposed action.

Agencies and Persons Consulted

No agencies or persons were consulted. Because the proposed action is not a type of activity that has the potential to cause effects on historic properties, the NRC has no further obligations under section 106 of the National Historic Preservation Act. Similarly, the proposed action would not affect threatened or endangered species; therefore, consultation under section 7 of the Endangered Species Act is not required.

III. Finding of No Significant Impact

TVA requested an exemption from the requirement in 10 CFR 37.11(c)(2) to have a locked gate or door with a monitored alarm at the access control point for the Watts Bar OSGSFs where the old steam generators are stored. Based on the review of available information, including information provided in the licensee's request for exemption and its response to a request for additional information, the NRC determined that the proposed action would not have any significant environmental impacts. Also, the impacts of the “no-action” alternative would be the same as the impacts of the proposed action.

Consistent with 10 CFR 51.21, the NRC conducted an environmental review of the proposed action and, in accordance with 10 CFR 51.32(a)(4), this FONSI incorporates the EA in Section II of this document by reference. Therefore, the NRC concludes that the proposed action will not have a significant effect on the quality of the human environment. Accordingly, the NRC has determined an environmental impact statement for the proposed action is not needed.

This FONSI and related environmental documents are available for public inspection online in the ADAMS Public Documents collection at https://www.nrc.gov/reading-rm/adams.html. Persons who do not have access to ADAMS or who encounter problems in accessing the documents located in ADAMS should contact the NRC's PDR reference staff by telephone at 1-800-397-4209 or 301-415-4737, or by email to PDR.Resource@nrc.gov.

Dated: June 21, 2024.
For the Nuclear Regulatory Commission.
Kimberly Green,
Senior Project Manager, Licensing Projects Branch II-2, Division of Operating Reactor Licensing, Office of Nuclear Reactor Regulation.

[FR Doc. 2024-14058 Filed 6-26-24; 8:45 am]

BILLING CODE 7590-01-P